DEPARTMENT OF COMMERCE

National Oceanic and Atmospheric Administration

RIN 0648-XE560

Marine Mammals; File Nos. 19436 and 19592

AGENCY: National Marine Fisheries Service (NMFS), National Oceanic and Atmospheric Administration (NOAA), Commerce.

ACTION: Notice; receipt of applications.

SUMMARY: Notice is hereby given that the Aleut Community of St. Paul Island, Tribal Government, Ecosystem Conservation Office [File No. 19436], 2050 Venia Minor Road, P.O. Box 86, St. Paul Island, AK 99660 [Responsible Party: Pamela Lestenkof], and the St. George Traditional Council, Ecosystem Conservation Office [File No. 19592], P.O. Box 940, St. George Island, Alaska 99591 [Responsible Party: Chris Merculief], have applied in due form for a permit to conduct research on and export specimens of northern fur seals (Callorhinus ursinus), Steller sea lions (Eumetopias jubatus) and harbor seals (Phoca vitulina) for scientific research.

DATES: Written, telefaxed, or email comments must be received on or before June 8, 2016.

ADDRESSES: The application and related documents are available for review by selecting “Records Open for Public Comment” from the “Features” box on the Applications and Permits for Protected Species (APPS) home page, https://apps.nmfs.noaa.gov, and then selecting the appropriate File No. from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicants (File Nos. 19436 and 19592) propose a series of activities to fulfill their Biosampling, Entanglement/Disentanglement, and Island Sentinel Program responsibilities as established under the co-management agreements between NMFS and the Aleut Communities. The activities include ground and aerial surveys (using Unmanned Aircraft Systems); behavioral observations; monitoring; mark-resight; capture for flipper-tagging, standard measurements, and weight; collection of scat, molt, spew, and other samples from the ground; photograph; video; and photo-id of Steller sea lions, northern fur seals, and harbor seals. It also includes incidental harassment of the pinnipeds while performing these activities including remote camera installation, maintenance, and removal. In addition, the applicants would be authorized to collect, salvage, and accept (from subsistence users) samples from dead stranded and subsistence-hunted marine mammals. Unintentional mortality of northern fur seals and Steller sea lions is requested. See tables in the applications for numbers of takes by species, stock and activity. The Aleut Community of St. Paul Island, Tribal Government, Ecosystem Conservation Office activities will be performed in the Pribilof Islands, including St. Paul, St. George, Walrus, and Otter Islands, and Sea Lion Rock, Alaska. The St. George Traditional Council, Ecosystem Conservation Office activities will be performed in St. George Island, Alaska. The permits are requested for 5 years.

In compliance with the National Environmental Policy Act of 1969 (42 U.S.C. 4321 et seq.), an initial determination has been made that the activities proposed are consistent with the Preferred Alternative in the Final Programmatic Environmental Impact Statement (PEIS) for Steller Sea Lion and Northern Fur Seal Research (NMFS 2007) and the 2014 Environmental Assessment for Issuance of Permits to take Steller Sea Lions by harassment during surveys using unmanned aerial systems, and that issuance of the permits would not have a significant adverse impact on the human environment.

Concurrent with the publication of this notice in the Federal Register, NMFS is forwarding copies of the application to the Marine Mammal Commission and its Committee of Scientific Advisors.

Dated: May 4, 2016.
Julia Harrison,
Chief, Permits and Conservation Division, Office of Protected Resources, National Marine Fisheries Service.

[FR Doc. 2016-10833 Filed 5-6-16; 8:45 am]

BILLING CODE 3510-22-P